RAILROAD RETIREMENT BOARD

Proposed Collection; Comment Request

In accordance with the requirement of section 3506 (c)(2)(A) of the Paperwork Reduction Act of 1995 which provides opportunity for public comment on new or revised data collections, the Railroad Retirement Board (RRB) will publish periodic summaries of proposed data collections. Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

1. Title and purpose of information collection: Application and Claim for Unemployment Benefits and Employment Service; OMB 3220-0022.

Section 2 of the Railroad Unemployment Insurance Act (RUIA) (45 U.S.C. 231), provides unemployment benefits for qualified railroad employees. These benefits are generally payable for each day of unemployment in excess of four during a registration period (normally a period of 14 days).

Section 12 of the RUIA provides that the RRB establish, maintain and operate free employment facilities directed toward the reemployment of railroad employees. The procedures for applying for the unemployment benefits and employment service and for registering and claiming the benefits are prescribed in 20 CFR 325. 20 CFR 321 provides for applying and filing claims for unemployment benefits electronically.

The RRB utilizes the following forms to collect the information necessary to pay unemployment benefits. Form UI-1 (or its internet equivalent, Form UI-1 (internet)), Application for Unemployment Benefits and Employment Service, is completed by a claimant for unemployment benefits once in a benefit year, at the time of first registration. Completion of Form UI-1 or UI-1 (internet) also registers an unemployment claimant for the RRB's employment service.

The RRB also utilizes Form UI-3 (or its internet equivalent Form UI-3 (internet)), Claim for Unemployment Benefits, for use in claiming unemployment benefits for days of unemployment in a particular registration period, normally a period of 14 days.

Completion of Forms UI-1, UI-1(internet), UI-3, and UI-3 (internet) is required to obtain or retain benefits. The number of responses required of each claimant varies, depending on their period of unemployment. The RRB proposes no changes to the forms in this information collection.

Estimate of Annual Respondent Burden
Form No. | Annual responses | Time (minutes) | Burden (hours)
UI-1 | 2,118 | 10 | 353
UI-1 (Internet) | 7,549 | 10 | 1,258
UI-3 | 23,724 | 6 | 2,372
UI-3 (Internet) | 82,027 | 6 | 8,203
Total | 115,418 |  | 12,186

2. Title and purpose of information collection: Placement Service; OMB 3220-0057.

Section 12(i) of the Railroad Unemployment Insurance Act (RUIA) (45 U.S.C. 362), authorizes the RRB to establish, maintain, and operate free employment offices to provide claimants for unemployment benefits with job placement opportunities. Section 704(d) of the Regional Railroad Reorganization Act of 1973, as amended, and as extended by the Consolidated Omnibus Budget Reconciliation Act of 1985, required the RRB to maintain and distribute a list of railroad job vacancies, by class and craft, based on information furnished by rail carriers to the RRB. Although the requirement under the law expired effective August 13, 1987, the RRB has continued to obtain this information in keeping with its employment service responsibilities under section 12(k) of the RUIA. Application procedures for the job placement program are prescribed in 20 CFR 325. The procedures pertaining to the RRB's obtaining and distributing job vacancy reports furnished by rail carriers are described in 20 CFR 346.1.

The RRB currently utilizes four forms to obtain information needed to carry out its job placement responsibilities. Forms ES-21, Referral to State Employment Service, and ES-21c, Report of State Employment Service Office, are used by the RRB to provide placement assistance for unemployed railroad employees through arrangements with State Employment Service offices. Form UI-35, Field Office Record of Claimant Interview, is used primarily by the RRB to conduct in-person interviews of claimants for unemployment benefits.

Completion of these forms is required to obtain or maintain a benefit. In addition, the RRB also collects Railroad Job Vacancies information received voluntarily from railroad employers. The RRB proposes no changes to the forms in this information collection.

Estimate of Current Annual Respondent Burden
Form No. | Annual responses | Time (minutes) | Burden (hours)
ES-21 | 80 | 1 | 1
ES-21c | 25 | 2 | 1
UI-35 in person | 6,300 | 7 | 735
UI-35 by mail | 700 | 11 | 128
Job Vacancies | 470 | 10 | 78
Total | 7,575 |  | 943

3. Title and purpose of information collection: Report of Medicaid State Office on Beneficiary's Buy-In Status; OMB 3220-0185.

Under section 7(d) of the Railroad Retirement Act (45 U.S.C. 231), the RRB administers the Medicare program for persons covered by the railroad retirement system. Under section 1843 of the Social Security Act, states may enter into “buy-in agreements” with the Secretary of Health and Human Services for the purpose of enrolling certain groups of low-income individuals under the Medicare medical insurance (Part B) program and paying the premiums for their insurance coverage. Generally, these individuals are categorically needy under Medicaid and meet the eligibility requirements for Medicare Part B. States can also include in their buy-in agreements, individuals who are eligible for medical assistance only. The RRB utilizes Form RL-380-F, Report of Medicaid State Office on Beneficiary's Buy-In Status, to obtain information needed to determine if certain railroad beneficiaries are entitled to receive Supplementary Medical Insurance program coverage under a State buy-in agreement in the States in which they reside. Completion of Form RL-380-F is voluntary. One response is received from each respondent. The RRB proposes the following changes to Form RL-380-F:

• Change ‘Medicare Number’ box on righthand side of form to ‘Medicare Beneficiary Identifier’.

• Remove box 6 on righthand side of form ‘Social Security Number’ as it is a duplicate of box 4 ‘Beneficiary's Own Social Security Number’.

• In Question 4, change ‘Medicare number under which state paid premium (if different from RRB Medicare claim number’ to ‘Medicare Beneficiary Identifier Number (MBI) in which state paid premium’.

Estimate of Annual Respondent Burden
Form No. | Annual responses | Time (minutes) | Burden (hours)
RL-380-F | 600 | 10 | 100

Additional Information or Comments: To request more information or to obtain a copy of the information collection justification, forms, and/or supporting material, contact Kennisha Money at (312) 469-2591 or Kennisha.Money@rrb.gov. Comments regarding the information collection should be addressed to Brian Foster, Railroad Retirement Board, 844 North Rush Street, Chicago, Illinois 60611-1275 or emailed to Brian.Foster@rrb.gov. Written comments should be received within 60 days of this notice.

Brian Foster,
Clearance Officer.

[FR Doc. 2023-20792 Filed 9-25-23; 8:45 am]

BILLING CODE 7905-01-P